DEPARTMENT OF THE INTERIOR

Fish and Wildlife Service

[FWS-R2-R-2012-N230; 1265-0000-10137-S3]

Kootenai National Wildlife Refuge, Boundary County, ID; Final Comprehensive Conservation Plan and Finding of No Significant Impact for Environmental Assessment

AGENCY: Fish and Wildlife Service, Interior.

ACTION: Notice of availability.

SUMMARY: We, the U.S. Fish and Wildlife Service (Service), announce the availability of our final comprehensive conservation plan (CCP) and finding of no significant impact for the environmental assessment for the Kootenai National Wildlife Refuge (NWR/refuge). In this final CCP, we describe how we will manage the refuge for the next 15 years.

ADDRESSES: You may view or obtain copies of the final CCP and finding of no significant impact (FONSI) for the environmental assessment (EA) by any of the following methods. You may request a hard copy or CD-ROM.

Agency Web Site: Download a copy of the document at http://www.fws.gov/pacific/planning.

Email: FW1PlanningComments@fws.gov. Include “Kootenai NWR FCCP/EA” in the subject line.

Fax: Attn: Dianna Ellis, Refuge Manager, (208) 267-3888.

U.S. Mail: Dianna Ellis, Refuge Manager, Kootenai National Wildlife Refuge, 287 Westside Road, Bonners Ferry, ID 83805.

In-Person Viewing or Pickup: Call (208) 267-3888 to make an appointment during regular business hours at the above address.

FOR FURTHER INFORMATION CONTACT: Dianna Ellis, Refuge Manager, (208) 267-3888.

SUPPLEMENTARY INFORMATION:

Introduction

With this notice, we announce the completion of the CCP process for Kootenai National Wildlife Refuge. The Service started this process through a notice of intent in the Federal Register (74 FR 8102; February 23, 2009). We released the draft CCP/EA to the public, announcing and requesting comments in a notice of availability in the Federal Register (76 FR 48877; August 9, 2011).

Kootenai NWR encompasses 2,774 acres along the lower Kootenai River in Boundary County, Idaho. Habitat types on the refuge include seasonal, semipermanent, and permanent wetlands; floodplain forests; coniferous forests; managed pastures; and croplands. The refuge was established under the Migratory Bird Conservation Act “for use as an inviolate sanctuary, or for any other management purpose, for migratory birds.” The refuge provides important habitat for waterbirds, migratory landbirds, and raptors; a variety of mammals including white-tailed deer, elk, and moose; and bull trout, which is listed as a threatened species under the Federal Endangered Species Act.

We announce our CCP decision and the availability of a FONSI for Kootenai NWR in accordance with the National Wildlife Refuge System Administration Act of 1966 (16 U.S.C. 668dd-668ee) (Refuge Administration Act) and National Environmental Policy Act (NEPA) (40 CFR 1506.6(b)) requirements. We prepared an analysis of environmental impacts, which we included in an EA that accompanied the draft CCP.

The CCP will guide us in managing and administering the refuges for the next 15 years. Alternative 2, as described in the draft CCP, is the basis for the final CCP.

Background

The Refuge Administration Act, as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify compatible wildlife-dependent recreational opportunities available to the public, including opportunities for compatible hunting, fishing, wildlife observation and photography, and environmental education and interpretation. We will review and update the CCP at least every 15 years in accordance with the Refuge Administration Act.

CCP Alternatives, Including Selected Alternative

Our draft CCP/EA (76 FR 48877; August 9, 2011) discussed several issues. To address these, we developed and evaluated the following alternatives.

Alternative 1 (No Action)

Under Alternative 1, we analyzed the following ongoing actions:

• Continuing to manage wetlands, croplands, and grasslands for migratory waterfowl, shorebirds, deer, and elk.

• Growing 200 acres of grain crops annually.

• Maintaining existing riparian and forest habitat; minimal management of instream habitat.

• Allowing waterfowl hunting on the 740-acre hunt area, 4 days per week, in accordance with the State's season. A 200-yard no-shooting area (91 acres) would continue along the auto tour route to provide for safety.

• Allowing big game and upland game (grouse) hunting on the 295 acres of timber on the west side of Lions Den and Westside Roads.

• Allowing fishing from the banks of Myrtle Creek only.

• Providing a 4.5-mile auto tour route that is open year-round to vehicles, walking, bicycling, jogging, dog walking (on leash only), cross-country skiing, and snowshoeing as weather and road conditions permit.

• Providing slightly over 5 miles of trails that are open to walking, jogging, and dog walking (on leash only) year-round, except for Island Pond Trail, which would be closed on hunt days during the waterfowl hunting season.

• Providing an Environmental Education Center for teacher-led, and occasionally staff-led, programs.

Alternative 2 (Selected Action)

Alternative 2, our preferred alternative, represents a balanced approach among the many competing needs at the refuge. An emphasis on managing wetlands, croplands, and grasslands for migratory waterfowl, shorebirds, deer, and elk would continue. The Service will pursue measures to improve habitat quality and restore native habitats, such as:

• Repairing and improving the existing water management infrastructure to increase the refuge's ability to manage wetlands.

• Increasing the acreage of moist-soil wetlands from 10-20 acres (current) to 75-100 acres to provide natural food sources for waterfowl. Once moist soil habitat is established, 50-75 acres of croplands would be restored to native upland grassland or wet meadow, while 125-200 acres of small grains and green browse would continue to be provided annually for migratory waterfowl.

• Maintaining 200 acres of existing riparian habitat and restoring 35-50 acres of native riparian and grassland habitats. White-tailed deer and elk populations would be managed, in consultation with the Idaho Department of Fish and Game (IDFG), through special permit hunts in order to protect restored riparian habitat.

• Suppressing wildfires and thinning forests to maintain an open understory and reduce ladder fuels.

• Working with partners to examine the feasibility of restoring degraded stream habitats for the benefit of native fish.

• Initiating a land protection plan study to analyze alternatives for possible refuge boundary expansion to include 120 acres of floodplain owned by the Idaho Department of Lands.

The refuge would continue to provide opportunities for compatible wildlife-dependent recreation, including waterfowl hunting, wildlife observation and photography, big game and upland game hunting, environmental education, and interpretation. Waterfowl hunting will continue be permitted 4 days per week, in accordance with the State's season. Current fishing regulations would continue (fishing is allowed from the banks of Myrtle Creek only). The 4.5-mile auto tour route will remain open year round to vehicles, walking, bicycling, jogging, dog walking (on leash only), cross-country skiing, and snowshoeing as weather and road conditions permit. A number of changes would be implemented to improve the quality of and access to these programs, increase public safety, and reduce disturbance to wildlife, including:

• The waterfowl hunt area will be reduced to 582 acres due to increasing the size of the 200-yard non-shooting area to include the area along the Deep Creek Trail (266 acres) to provide for safety. Overall, waterfowl hunting opportunities will be the same as under current management because the non-shooting area is rarely hunted.

• The location of fixed blinds and free-roam hunt areas would be adjusted as necessary based on habitat quality, waterfowl use of wetlands, and data from hunter surveys.

• An additional ADA-accessible blind will be constructed on the north hunt unit. South Pond will be open to hunting from the ADA blind only.

• Big game, upland game (grouse only), and turkey hunting will be allowed west of Lions Den Road (173 acres). Big game and upland game hunting will be discontinued west of Westside Road (122 acres). To reduce damage to riparian vegetation on the refuge flats, special permit and/or depredation hunts will be developed for white-tailed deer and elk, in consultation with Idaho Department of Fish and Game, if monitoring demonstrates a need for population control. Overall, opportunities for big game and upland game hunting will increase compared to current management.

• Wildlife observation, photography, walking, cross-country skiing, and snowshoeing will be allowed on four trails (3.7 miles total) year round, weather permitting. The Island Pond Trail will be closed to reduce disturbance to waterfowl.

• Environmental education programs will increase.

Alternative 3

This alternative was analyzed but not selected. Under Alternative 3, actions to protect, maintain, and restore habitat for priority species are the same as under Alternative 2, except that fewer areas would be planted to crops since more acres are managed as moist soil wetlands. The acreage in crops and moist soil would be intermediate between Alternatives 1 and 2.

Waterfowl, big game, upland game, and turkey hunting would be the same as in Alternative 2. As in Alternative 2, special permit hunts for white-tailed deer and elk on the refuge flats would be developed to reduce damage to riparian vegetation. Catch-and-release fishing would be allowed from the banks of Myrtle Creek using single, barbless, non-baited hooks only.

The 4.5-mile auto tour route would remain open year-round to vehicles, walking, bicycling, jogging, dog walking (on leash only), cross-country skiing, and snowshoeing as weather and road conditions permit. Wildlife observation, photography, walking, cross-country skiing, and snowshoeing would be allowed on five trails (4.8 miles total) year round, weather permitting. The Island Pond Trail would be closed, but the 1.1-mile Kootenai River Trail would be reopened. Environmental education programs would increase.

Comments

We solicited comments on the draft CCP/EA from August 9, 2011, to September 12, 2011 (76 FR 48877; August 9, 2011). To address the public comments we received, responsive changes and clarifications were made to the final CCP where appropriate. These changes are summarized in the FONSI.

Selected Alternative

After considering the public comments, we have selected Alternative 2 for implementation. The goals, objectives, and strategies under Alternative 2 best achieve the purpose and need for the CCP while maintaining balance among the varied management needs and programs. Alternative 2 addresses the refuge purposes, issues, and relevant mandates, and is consistent with principles of sound fish and wildlife management.

Dated: November 10, 2011.
Hugh Morrison,
Acting Regional Director, Pacific Region, Portland, Oregon.

[FR Doc. 2012-6250 Filed 3-20-12; 8:45 am]

BILLING CODE 4310-55-P